DEPARTMENT OF ENERGY

Federal Energy Regulatory Commission

[Project No. 6418-007]

Judith A. Burford Hydroelectric Project, CO; Notice of Availability of Final Environmental Assessment

October 25, 2002.

In accordance with the National Environmental Policy Act of 1969 and the Federal Energy Regulatory Commission's (Commission) regulations, 18 CFR part 380 (Order No. 486, 52 FR 47897), the Office of Energy Projects has reviewed the application for an original license for the Judith A. Burford Hydroelectric Project, and has prepared an Environmental Assessment (EA). The operating project is located on East Brush Creek, a tributary to the Eagle River, in Eagle County, Colorado. The project occupies about 1.008 acres of land within the White River National Forest, administered by the FS.

The EA contains the staff's analysis of the potential environmental impacts of the project and concludes that licensing the project, with appropriate environmental protective measures, would not constitute a major federal action that would significantly affect the quality of the human environment.

A copy of the EA is available for review at the Commission in the Public Reference Room or may be viewed on the Commission's website at http://www.ferc.gov using the “FERRIS” link. Enter the docket number excluding the last three digits in the docket number field to access the document. For assistance, call (202)502-8222 or for TTY, (202) 502-8659.

For further information, contact Gaylord Hoisington at (202) 502-6032.

Magalie R. Salas,
Secretary.

[FR Doc. 02-27943 Filed 11-1-02; 8:45 am]

BILLING CODE 6717-01-P